DEPARTMENT OF HEALTH AND HUMAN SERVICES

Centers for Disease Control and Prevention

[30Day-11-10ES]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Data Calls for the Laboratory Response Network—Existing collection in use without an OMB Control Number (Generic Clearance)—National Center for Emerging and Zoonotic Infectious Diseases, NCEZID, Centers for Disease Control and Prevention (CDC).

Background and Brief Description

This request is for approval of an Existing collection in use without an OMB Control Number (Generic clearance).

The Laboratory Response Network (LRN) was established by the Department of Health and Human Services, Centers for Disease Control and Prevention (CDC) in accordance with Presidential Decision Directive 39, which outlined national anti-terrorism policies and assigned specific missions to federal departments and agencies. The LRN's mission is to maintain an integrated national and international network of laboratories that can respond to acts of biological, chemical, or radiological terrorism and other public health emergencies. Federal, state and local public health laboratories voluntarily join the LRN.

The LRN Program Office maintains a database of information through a restricted Web site available only to member laboratories that include contact information (i.e. phone numbers, e-mail address) as well as staff and equipment inventories. The collection of personal identifiable information for the purpose of communication with members was approved under OMB 0920-0850. However, semiannually or during emergency response the LRN Program Office may conduct a Special Data Call to obtain additional information from LRN Member Laboratories in regards to biological or chemical terrorism preparedness. Special Data Calls may be conducted via queries that are distributed by broadcast e-mails or by survey tools (i.e. Survey Monkey). These special data calls vary in nature. Some requested information may be the number of surge staff available to support an emerging threat like H1N1. As technology changes, LRN may also query laboratories to see if they have already purchased equipment to support this new technology.

There will be no cost to respondents other than their time to respond to the data call. The total annualized burden for this information collection request is 400 hours.

Estimate of Annualized Burden Hours
Type of respondents | Forms | Number of respondents | Average number of responses per respondent | Average burden per response (hours)
Public Health Laboratorians | Special Data Call | 200 | 4 | 30/60

Dated: November 15, 2010.
Carol Walker,
Acting Reports Clearance Officer, Centers for Disease Control and Prevention.

[FR Doc. 2010-29240 Filed 11-18-10; 8:45 am]

BILLING CODE 4163-18-P